DEPARTMENT OF ENERGY

Western Area Power Administration

Loveland Area Projects, Western Area Colorado Missouri Balancing Authority, and Colorado River Storage Project—Rate Order No. WAPA-214

AGENCY: Western Area Power Administration, DOE.

ACTION: Notice of proposed extension of transmission and ancillary services formula rates.

SUMMARY: The Rocky Mountain Region (RM) of the Western Area Power Administration (WAPA) proposes to extend existing formula rates (without any changes) for the Loveland Area Projects (LAP), the Western Area Colorado Missouri Balancing Authority (WACM), and the Colorado River Storage Project (CRSP) through September 30, 2026. The existing rates RM proposes to extend are: L-NT1 (network), L-FPT1 (firm point-to- point), L-NFPT1 (non-firm point-to-point), L-NFJDT (joint dispatch transmission), L-UU1 (unreserved use), L-AS1 (scheduling and dispatch), L-AS2 (reactive supply and voltage control (VAR) support), L-AS3 (regulation), L-AS4 (energy imbalance), L-AS5 (spinning reserves), L-AS6 (supplemental reserves), L-AS7 (balancing authority (BA) real power losses), and L-AS9 (generator imbalance). The existing rates expire on September 30, 2024.

DATES: A consultation and comment period will begin February 7, 2024, and end March 8, 2024. RM will accept written comments at any time during the consultation and comment period.

ADDRESSES: Written comments and requests to be informed of Federal Energy Regulatory Commission (FERC) actions concerning the proposed extension submitted by WAPA to FERC for approval should be sent to: Barton V. Barnhart, Regional Manager, Rocky Mountain Region, Western Area Power Administration, 5555 East Crossroads Boulevard, Loveland, CO 80538-8986, or email: LAPtransadj@wapa.gov. RM will post information about the proposed formula rate extension and written comments received to its website at: www.wapa.gov/2025-transmission-and-ancillary-services-rate-extension.

FOR FURTHER INFORMATION CONTACT: Sheila D. Cook, Rates Manager, Rocky Mountain Region, Western Area Power Administration, 5555 East Crossroads Boulevard, Loveland, CO 80538-8986, (970) 685-9562 or email: LAPtransadj@wapa.gov.

SUPPLEMENTARY INFORMATION: On March 9, 2017, FERC approved and confirmed LAP transmission and LAP, WACM, and CRSP ancillary services formula rates under Rate Schedules L-NT1, L-FPT1, L-NFPT1, L-UU1, L-AS1, L-AS2, L-AS3, L-AS4, L-AS5, L-AS6, L-AS7, and L-AS9 under Rate Order No. WAPA-174 for a 5-year period through September 30, 2021.¹

¹ Order Confirming and Approving Rate Schedules on a Final Basis, FERC Docket Nos. EF16-5-000 and EF16-5-001, 158 FERC ¶ 62,181 (2017).

On December 29, 2020, WAPA's Administrator approved rates for short-term sales for RM to use under the Western Energy Imbalance Service (WEIS) Market, which superseded rate schedules L-AS4, L-AS9, and L-AS7 (BA real power losses), for the 8-month period of February 1, 2021, through September 30, 2021.

On March 10, 2022, FERC confirmed and approved Rate Order No. WAPA-196 extending Rate Schedules L-NT1, L-FPT1, L-NFPT1, L-UU1, L-AS1, L-AS2, L-AS3, L-AS5, and L-AS6 through September 30, 2024, on a final basis.²

² Order Confirming and Approving Rate Schedules on a Final Basis, FERC Docket Nos. EF21-8-000 and EF21-10-000, 178 FERC ¶ 62,147 (2022).

On March 29, 2022, FERC confirmed and approved Rate Order No. WAPA-197, putting long-term rates in place for RM to use under the WEIS Market under Rate Schedules L-AS4, L-AS9, L-AS7, and L-NFJDT through September 30, 2024, on a final basis.³

³ Order Confirming and Approving Rate Schedules on a Final Basis, FERC Docket No. EF21-9-000, 178 FERC ¶ 62,177 (2022).

In accordance with 10 CFR 903.23(a),⁴ RM is proposing to extend the existing formula rates under Rate Schedules L-NT1, L-FPT1, L-NFPT1, L-NFJDT, L-UU1, L-AS1, L-AS2, L-AS3, L-AS4, L-AS5, L-AS6, L-AS7, and L-AS9 for the period of October 1, 2024, through September 30, 2026. The existing formula rates are viewable on WAPA's website at: www.wapa.gov/about-wapa/regions/rm/rm-rates/rate-schedules. The existing formula rates provide sufficient revenue to pay all annual costs, including interest expense, and repay investment within the allowable period consistent with the cost recovery criteria set forth in Department of Energy (DOE) Order RA 6120.2.

⁴ 50 FR 37835 (Sept. 18, 1985) and 84 FR 5347 (Feb. 21, 2019).

On April 28, 2023, WAPA published a Federal Register notice titled “Recommendation for Western Area Power Administration's Rocky Mountain Region and Colorado River Storage Project Management Center to Pursue Final Negotiations Regarding Membership in the Southwest Power Pool Regional Transmission Organization and for the Upper Great Plains Region to Expand Its Participation”.⁵ On September 8, 2023, WAPA's Administrator authorized staff to move forward with the recommendation to pursue final negotiations for membership and expanded participation in the Southwest Power Pool Regional Transmission Organization (SPP RTO). RM and CRSP Management Center's (MC) membership in the SPP RTO would have significant impacts on the above rate methodologies. Extending the existing rates for two years would allow RM and CRSP MC time to evaluate rate methodologies and then conduct major rate adjustment processes to put new rates in place that would become effective upon RM and CRSP MC joining the SPP RTO (currently planned on April 1, 2026).

⁵ 88 FR 26298 (Apr. 28, 2023).

In accordance with 10 CFR 903.23(a), RM has determined that it is not necessary to hold public information or public comment forums for this rate action but is initiating a 30-day consultation and comment period to give the public an opportunity to comment on the proposed extension. RM will review and consider all timely public comments at the conclusion of the consultation and comment period and adjust the proposal as appropriate.

Legal Authority

By Delegation Order No. S1-DEL-RATES-2016, effective November 19, 2016, the Secretary of Energy delegated: (1) the authority to develop power and transmission rates to WAPA's Administrator; (2) the authority to confirm, approve, and place such rates into effect on an interim basis to the Deputy Secretary of Energy; and (3) the authority to confirm, approve, and place into effect on a final basis, or to remand or disapprove such rates to FERC. By Delegation Order No. S1-DEL-S3-2023, effective April 10, 2023, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator.

Ratemaking Procedure Requirements

Environmental Compliance

Categorical exclusion determinations were previously issued for these rates under the following categorical exclusion listed in appendix B to subpart D of 10 CFR part 1021: B4.3 (Electric power marketing rate changes).⁶ Those categorical exclusion determinations are also applicable to this rate action. Copies of the categorical exclusion determinations are available on WAPA's website at: www.wapa.gov/about-wapa/regions/rm/rm-environment/cx2016/and www.wapa.gov/about-wapa/regions/rm/rm-environment/2021-cx/. Look for files titled, “2016-077 Proposed Formula Rate Adjustment for Transmission Ancillary Services and Sale of Surplus” and “2021-088 Rate Change Categorical Exclusion Determination-WAPA-197.08052021.”

⁶ The determination was done in compliance with the National Environmental Policy Act (NEPA) of 1969, as amended, 42 U.S.C. 4321-4347, the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on January 26th, 2024, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 2, 2024.
Treena V. Garrett,
Federal Register Liaison Officer, U.S. Department of Energy.

[FR Doc. 2024-02462 Filed 2-6-24; 8:45 am]

BILLING CODE 6450-01-P